DEPARTMENT OF TRANSPORTATION

Federal Aviation Administration

14 CFR Part 39

[Docket No. FAA-2018-1007; Product Identifier 2018-NM-141-AD]

RIN 2120-AA64

Airworthiness Directives; Airbus SAS Airplanes

AGENCY: Federal Aviation Administration (FAA), DOT.

ACTION: Notice of proposed rulemaking (NPRM).

SUMMARY: We propose to adopt a new airworthiness directive (AD) for certain Airbus SAS Model A318 and A319 series airplanes, Model A320-211, -212, -214, -216, -231, -232, and -233 airplanes, and Model A321-111, -112, -131, -211, -212, -213, -231, and -232 airplanes. This proposed AD was prompted by a report that taperloks used in a certain wing-to-fuselage junction were found to be non-compliant with the applicable specification, resulting in a loss of pre-tension in the fasteners. This proposed AD would require repetitive special detailed inspections of the center and outer wing box lower stiffeners and panels at a certain junction on the left- and right-hand sides for any cracking, and repair if necessary. We are proposing this AD to address the unsafe condition on these products.

DATES: We must receive comments on this proposed AD by January 25, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For the incorporation by reference (IBR) material described in the “Related IBR material under 1 CFR part 51” section in SUPPLEMENTARY INFORMATION, contact EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2018-1007; or in person at the Docket Management Facility between 9 a.m. and 5 p.m., Monday through Friday, except Federal holidays. The AD docket contains this NPRM, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposal. Send your comments to an address listed under the ADDRESSES section. Include “Docket No. FAA-2018-1007; Product Identifier 2018-NM-141-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

The European Aviation Safety Agency (EASA), which is the Technical Agent for the Member States of the European Union, has issued EASA AD 2018-0218, dated October 11, 2018; corrected October 26, 2018 (“EASA AD 2018-0218”) (also referred to as the Mandatory Continuing Airworthiness Information, or “the MCAI”), to correct an unsafe condition for certain Airbus SAS Model A318 and A319 series airplanes, Model A320-211, -212, -214, -216, -231, -232, and -233 airplanes, and Model A321-111, -112, -131, -211, -212, -213, -231, and -232 airplanes. The MCAI states:

Taperloks used in the wing-to-fuselage junction at Rib 1 were found to be non-compliant with the applicable specification, resulting in a loss of pre-tension in the fasteners.

This condition, if not detected and corrected, could affect the structural integrity of the aeroplane. To address this potential unsafe condition, Airbus issued SB A320-57-1129 and SB A320-57-1130, later revised twice, providing instructions for repetitive internal inspections of the lower stiffeners and for repetitive external inspections of the lower panels of the center and outer wing box at the level of Rib 1 junction. Consequently, EASA issued AD 2007-0067, later revised [which corresponds to FAA AD 2008-02-15, Amendment 39-15345 (73 FR 4063, January 24, 2008) (“AD 2008-02-15”)], to require accomplishment of these inspections.

Since EASA AD 2007-0067R1 was issued, new events and the results of studies identified an aging effect on these parts. Prompted by these findings, Airbus revised SB A320-57-1129 (now at Revision 05) and A320-57-1130 (now at Revision 04), expanding the applicability, modifying the area to be inspected and updating the inspection intervals.

For the reasons stated above, this [EASA] AD retains the requirements of EASA AD 2007-0067R1, which is superseded, expands the Applicability, modifies the areas to be inspected and revises the inspection thresholds and intervals.

This [EASA] AD is republished to correct typographical errors in paragraph (2) and in Tables 1 and 3.

Relationship Between Proposed AD and AD 2008-02-15

This NPRM would not supersede AD 2008-02-15. Rather, we have determined that a stand-alone AD would be more appropriate to address the changes in the MCAI. This NPRM would require repetitive special detailed inspections of the center and outer wing box lower stiffeners and panels at the level of rib 1 junction on the left- and right-hand sides for any cracking, and repair if necessary. Accomplishment of the proposed actions would then terminate all of the requirements of AD 2008-02-15.

Related IBR Material Under 1 CFR Part 51

EASA AD 2018-0218 describes procedures for repetitive special detailed inspections of the center and outer wing box lower stiffeners and panels at the level of rib 1 junction on the left- and right-hand sides for any cracking, and repair if necessary. EASA AD 2018-0218 also provides procedures for an optional modification, which would terminate the repetitive inspections. This material is reasonably available because the interested parties have access to it through their normal course of business or by the means identified in the ADDRESSES section and it is publicly available through the EASA website.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Explanation of Required Compliance Information

In the FAA's ongoing efforts to improve the efficiency of the AD process, the FAA worked with Airbus and the EASA to develop a process to use certain EASA ADs as the primary source of information for compliance with requirements for corresponding FAA ADs. As a result, EASA AD 2018-0218 will be incorporated by reference in the FAA final rule. This proposed AD would, therefore, require compliance with the provisions specified in EASA AD 2018-0218, except for any differences identified as exceptions in the regulatory text of this proposed AD. Service information specified in EASA AD 2018-0218 that is required for compliance with EASA AD 2018-0218 will be available at http://www.regulations.gov under Docket No. FAA-2018-1007 after the FAA final rule is published.

Explanation of “RC” (Required for Compliance)

EASA AD 2018-0218, dated October 11, 2018; corrected October 26, 2018; might refer to service information that contains procedures or tests that are identified as RC. Those procedures and tests that are not identified as RC may be deviated from using accepted methods in accordance with the operator's maintenance or inspection program without obtaining approval of an alternative method of compliance (AMOC), provided the procedures and tests identified as RC can be done and the airplane can be put back in an airworthy condition.

Costs of Compliance

We estimate that this proposed AD affects 516 airplanes of U.S. registry. We estimate the following costs to comply with this proposed AD:

Estimated Costs for Required Actions
Labor cost | Parts cost | Cost per product | Cost on U.S. operators
51 work-hours × $85 per hour = $4,335 | $0 | $4,335 | $2,236,860

We have received no definitive data that would enable us to provide cost estimates for the on-condition actions specified in this proposed AD.

Estimated Costs for Optional Actions
Labor cost | Parts cost | Cost per product
244 work-hours × $85 per hour = $20,740 | $5,120 | $25,860

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus SAS: Docket No. FAA-2018-1007; Product Identifier 2018-NM-141-AD.

(a) Comments Due Date

We must receive comments by January 25, 2019.

(b) Affected ADs

This AD affects AD 2008-02-15, Amendment 39-15345 (73 FR 4063, January 24, 2008) (“AD 2008-02-15”).

(c) Applicability

This AD applies to Airbus SAS Model A318-111, -112, -121, and -122 airplanes, Model A319-111, -112, -113, -114, -115, -131, -132, and -133 airplanes, Model A320-211, -212, -214, -216, -231, -232, and -233 airplanes, and Model A321-111, -112, -131, -211, -212, -213, -231, and -232 airplanes, certificated in any category, as identified in the European Aviation Safety Agency (EASA) AD 2018-0218, dated October 11, 2018; corrected October 26, 2018 (“EASA AD 2018-0218”).

(d) Subject

Air Transport Association (ATA) of America Code 57, Wings.

(e) Reason

This AD was prompted by a report that taperloks used in the wing-to-fuselage junction at rib 1 were found to be non-compliant with the applicable specification, resulting in a loss of pre-tension in the fasteners. We are issuing this AD to address the loss of pre-tension in the fasteners, which could affect the structural integrity of the airplane.

(f) Compliance

Comply with this AD within the compliance times specified, unless already done.

(g) Requirements

Except as specified in paragraph (h) of this AD: Comply with all required actions and compliance times specified in, and in accordance with, EASA AD 2018-0218.

(h) Exceptions to EASA AD 2018-0218

(1) For purposes of determining compliance with the requirements of this AD: Where EASA AD 2018-0218 refers to its effective date, this AD requires using the effective date of this AD.

(2) The “Remarks” section of EASA AD 2018-0218 does not apply.

(3) Where EASA AD 2018-0218 refers to instructions provided by Airbus, for this AD, the instructions must be approved using a method approved by the Manager, International Section, Transport Standards Branch, FAA; or EASA; or Airbus SAS's EASA Design Organization Approval (DOA). If approved by the DOA, the approval must include the DOA-authorized signature.

(i) Terminating Action for AD 2008-02-15

Accomplishing the actions required by this AD terminates all requirements of AD 2008-02-15.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): Except as required by paragraph (j)(2) of this AD: Any RC procedures and tests identified in the service information referenced in EASA AD 2018-0218 must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) For information about EASA AD 2018-0218, contact EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2018-0218 may be found in the AD docket on the internet at http://www.regulations.gov by searching for and locating Docket No. FAA-2018-1007.

(2) For more information about this AD, contact Sanjay Ralhan, Aerospace Engineer, International Section, Transport Standards Branch, FAA, 2200 South 216th St., Des Moines, WA 98198; telephone and fax 206-231-3223.

Issued in Des Moines, Washington, on November 29, 2018.
James Cashdollar,
Acting Director, System Oversight Division, Aircraft Certification Service.

[FR Doc. 2018-26624 Filed 12-10-18; 8:45 am]

BILLING CODE 4910-13-P